DEPARTMENT OF COMMERCE

National Oceanic and Atmospheric Administration

[I.D. 061004B]

Magnuson-Stevens Act Provisions; General Provisions for Domestic Fisheries; Application for Exempted Fishing Permits (EFPs)

National Marine Fisheries Service (NMFS), National Oceanic and Atmospheric Administration (NOAA), Commerce.

Notification of a proposal for an EFP to conduct experimental fishing; request for comments.

SUMMARY: The Administrator, Northeast Region, NMFS (Regional Administrator) has made a preliminary determination that the subject EFP application requested by the National Fisheries Institute (NFI) and Rutgers, The State University of New Jersey (Rutgers), for a study to conduct a supplemental finfish trawl survey (survey) under the Mid-Atlantic Fishery Management Council Research Set-Aside (RSA) Program contains all the required information and warrants further consideration. The Regional Administrator has also made a preliminary determination that the activities authorized under the EFP would be consistent with the goals and objectives of the Summer Flounder, Scup, and Black Sea Bass, Atlantic Mackerel, Squid, and Butterfish, and Bluefish Fishery Management Plans. However, further review and consultation may be necessary before a final determination is made to issue the EFP. Therefore, NMFS announces that the Regional Administrator proposes to issue an EFP that would allow one vessel to conduct fishing operations that are otherwise restricted by the regulations governing the fisheries of the Northeastern United States.

Regulations under the Magnuson-Stevens Fishery Conservation and Management Act require publication of this notification to provide interested parties the opportunity to comment on applications for proposed EFPs.

DATES: Comments on this document must be received on or before July 6, 2004.

ADDRESSES: Comments on this notice may be submitted by e-mail. The mailbox address for providing e-mail comments is DA327A@noaa.gov. Include in the subject line the following document identifier: “Comments on supplemental finfish trawl survey.” Written comments should be sent to Patricia A. Kurkul, Regional Administrator, NMFS, Northeast Regional Office, 1 Blackburn Drive, Gloucester, MA 01930. Mark the outside of the envelope “Comments on supplemental finfish trawl survey.” Comments may also be sent via fax to (978) 281-9135.

FOR FURTHER INFORMATION CONTACT: Paul Perra, Fishery Policy Analyst, phone: 978-281-9153, fax: 978-281-9135.

SUPPLEMENTARY INFORMATION: The requested EFP would expand work allowed under an existing EFP for the vessel to conduct additional research trawls in November along two offshore transects: one each at Alvin and Poor Man's Canyons.

Work under the existing EFP currently allows the vessel to conduct two trawl transects (one east of Hudson Canyon and one south of Baltimore Canyon) in January, May, and November, and along six offshore transects, one each near Alvin, Hudson, Baltimore, Poor Man's, Washington, and Norfolk Canyons in March. NFI and Rutgers have requested that, during November, the transects at Alvin and Poor Man's Canyons also be sampled. This would expand the scope of work under the project's current EFP from two transects to four transects during November. Therefore, a new EFP is required for the November portion of the project.

The EFP would allow for exemptions from summer flounder fishery regulations at 50 CFR 648.101(a) and (b); summer flounder gear restrictions at § 648.104; scup trimester quota closures at § 648.121(a); scup time and area restrictions at § 648.122(a) and (b); scup trawl gear restrictions at § 648.123; black sea bass trip limits at § 648.140(b)(2); black sea bass gear restrictions at § 648.144(a); Loligo squid and Atlantic mackerel closures at § 648.22(a) and (c); and bluefish closures at § 648.161(a) and (b). In addition, in order to collect individual size measurements and other data, the EFP for the research vessel would grant exemptions from the following regulations: Minimum size for summer flounder at § 648.103(a), (b), and (c), for scup at § 648.124(a), for black sea bass at § 648.143, for monkfish at § 648.93, for spiny dogfish at § 648.233, for yellowtail flounder and winter flounder at § 648.83, and for lobster at § 697.20(b); from spiny dogfish closures at § 648.231; and from Northeast multispecies regulated mesh, restrictions on gear, and methods of fishing at § 648.80.

The general trawl sampling procedures in November would remain similar to what is described in the original EFP. Sampling would be conducted at trawl stations along each transect from depths near 40, 60, 80, 125, 150, 200, and 225 fathoms (73, 109, 146, 228, 274, 366, and 411 meters, respectively), with four additional trawl sites added along each of the transects based on the catches of the target species. Primary target species would be summer flounder, scup, black sea bass, monkfish, and spiny dogfish, and secondary target species would be skates, yellowtail flounder, winter flounder, lobster, and Loligo squid. One tow would be conducted at each station over a distance of 0.5 to 2 nautical miles, with a tow speed of 3 to 3.2 knots. Careful records would be kept of all gear descriptions so that consistent gear can be used on subsequent surveys. A four-seam box net would be used with a 2.4 inch (6.1 cm) mesh codend. Sampling protocol for handling the catch from the trawl survey would follow standard NOAA Fisheries survey methods. Every effort would be made to weigh the entire catch, or to put in baskets the entire catch and weigh a subsample of the baskets. Lengths would be obtained for target species. If time does not permit sampling between tows, fish sorted for length measurement would be placed in labeled containers and stored until processing can occur. Temperature, salinity, and depth profiles would be taken for each tow. Pre- and post-cruise meetings would be held to confirm study logistics and conduct retrospective analysis of cruise activities. Scientific research personnel would be on board the vessel at all times when the survey is conducted.

The participating vessel would be required to report all landings in its Vessel Trip Reports.

Authority: 16 U.S.C. 1801 et seq.

Dated: June 14, 2004.
Alan D. Risenhoover,
Acting Director, Office of Sustainable Fisheries, National Marine Fisheries Service.

[FR Doc. E4-1378 Filed 6-17-04; 8:45 am]

BILLING CODE 3510-22-S